DEPARTMENT OF HEALTH AND HUMAN SERVICES

National Institutes of Health

The National Institute of Mental Health (NIMH) Draft Strategic Plan; Request for Comments

SUMMARY: NIMH is revising its 2008 Strategic Plan to guide the Institute's research efforts and priorities over the next five years (2015-2020). The purpose of this Notice is to seek input from the public about the draft NIMH 2015 Strategic Plan. The draft plan will be publicly available through the NIMH Draft Strategic Plan Web page (http://www.nimh.nih.gov/about/strategic-planning-reports/review-the-draft-2015-nimh-strategic-plan.shtml) for a 30-day period beginning on the publication date of this Notice. The public is invited to provide comments via the email address or postal address provided in this Notice and on the NIMH Draft Strategic Plan Web page.

DATES: To ensure consideration, your responses must be received within a 30-day period that begins on the publication date of this Notice.

ADDRESSES: Responses to this Notice should be submitted electronically using email to nimhstratplan@mail.nih.gov. Alternatively, written responses can be submitted by mail to the Science Writing, Press, and Dissemination Branch, 6001 Executive Boulevard, Room 6200, MSC 9663. Bethesda, MD 20892-9663.

FOR FURTHER INFORMATION CONTACT: Please contact our NIMH Information Specialists using the following contact information: telephone: 1-866-615-6464 (toll-free), 1-301-443-8431 (TTY), 1-866-415-8051 (TTY toll-free). Fax: 1-301-443-4279, Email: nimhinfo@nih.gov

SUPPLEMENTARY INFORMATION:

Background

The National Institute of Mental Health (NIMH) is the lead federal agency for research on mental illnesses. The mission of the NIMH is to transform the understanding and treatment of mental illnesses through basic and clinical research, paving the way for prevention, recovery, and cure. To fulfill its mission, the NIMH supports and conducts research on mental illnesses and the underlying basic science of brain and behavior; supports the training of scientists to carry out basic and clinical mental health research; and, communicates with scientists, patients, providers, and the general public about the science of mental illnesses.

In 2008, the NIMH published a Strategic Plan to accelerate progress in basic, translational, and clinical science. The need to update the plan became clear with the increasing number of remarkable scientific advancements and the changing landscape of mental health care over the past six years. With the goals of helping individuals living with mental illnesses and promoting both prevention and cure, NIMH has revised its original four high-level Strategic Objectives as follows: (1) Define the biological basis of complex behaviors; (2) chart mental illness trajectories to determine when, where, and how to intervene; (3) develop better preventive and therapeutic interventions; and, (4) strengthen the public health impact of NIMH-supported research. These four Strategic Objectives form a broad roadmap for the Institute's priorities over the next five years, which begins with the fundamental science of the brain and behavior, and ends with public health impact. Full implementation of these Strategies Objectives, will, we hope, transform the diagnosis, treatment, and prevention of these devastating illnesses.

Request for Comments

This notice invites public comment and input on the development of the NIMH 2015 Strategic Plan. When developing your comments, we ask that you consider the draft plan in the context of the current scientific landscape, as well as within the context of broader federal, for-profit, and not-for-profit stakeholder perspectives. We are particularly interested in receiving your ideas for scientific advancements, new technical capabilities or tools, or major challenge topics that promise substantial change to mental health research if pursued.

General Information

Responses to this Notice are optional and voluntary. Any personal identifiers will be removed when responses are compiled. Proprietary, classified, confidential, or sensitive information should not be included in your response. This Notice is for planning purposes only and is not a solicitation for applications or an obligation on the part of the United States (U.S.) government to provide support for any ideas identified in response to it. Please note that the U.S. government will not pay for the preparation of any comment submitted or for its use of that comment.

Privacy Act Notification Statement: We are requesting your comments for the 2015-2020 National Institute of Mental Health (NIMH) Strategic Plan. The information you provide may be disclosed to NIMH staff serving to develop the strategic plan and to contractors working on NIMH's behalf. Submission of this information is voluntary.

Collection of this information is authorized under 42 U.S.C. 203, 24 l, 2891-1 and 44 U.S.C. 310 I and Section 30 l and 493 of the Public Health Service Act regarding the establishment of the National Institutes of Health, its general authority to conduct and fund research and to provide training assistance, and its general authority to maintain records in connection with these and its other functions.

Dated: November 3, 2014.
Thomas R. Insel,
Director, National Institute of Mental Health, National Institutes of Health.

[FR Doc. 2014-26760 Filed 11-10-14; 8:45 am]

BILLING CODE 4140-01-P